DEPARTMENT OF ENERGY

Federal Energy Regulatory Commission

Combined Notice of Filings #1

Take notice that the Commission received the following electric rate filings:

Docket Numbers: ER10-2400-011.

Applicants: Blue Canyon Windpower LLC.

Description: Updated Market Power Analysis for the Southwest Power Pool Region of Blue Canyon Windpower LLC.

Filed Date: 12/28/18.

Accession Number: 20181228-5286.

Comments Due: 5 p.m. ET 2/26/19.

Docket Numbers: ER10-2437-012.

Applicants: Arizona Public Service Company.

Description: Triennial Market Power Update of Arizona Public Service Company.

Filed Date: 12/28/18.

Accession Number: 20181228-5374.

Comments Due: 5 p.m. ET 2/26/19.

Docket Numbers: ER10-2794-027; ER12-1825-025; ER14-2672-012.

Applicants: EDF Trading North America, LLC, EDF Energy Services, LLC, EDF Industrial Power Services (CA), LLC.

Description: Notice of Non-Material Change in Status of the EDF Sellers.

Filed Date: 12/28/18.

Accession Number: 20181228-5359.

Comments Due: 5 p.m. ET 1/18/19.

Docket Numbers: ER10-2881-034; ER15-647-006; ER15-2191-005; ER16-2659-004; ER16-750-006.

Applicants: Alabama Power Company, Bethel Wind Farm LLC, Grant Plains Wind, LLC, Grant Wind, LLC, Kay Wind, LLC.

Description: Triennial Market Power Update of the Southern SPP Region Category 2 Sellers.

Filed Date: 12/31/18.

Accession Number: 20181231-5187.

Comments Due: 5 p.m. ET 3/1/19.

Docket Numbers: ER11-3576-016; ER11-3401 015.

Applicants: Golden Spread Electric Cooperative, Inc., Golden Spread Panhandle Wind Ranch, LLC.

Description: Updated Market Power Analysis of Golden Spread Electric Cooperative, Inc., et al.

Filed Date: 12/31/18.

Accession Number: 20181231-5176.

Comments Due: 5 p.m. ET 3/1/19.

Docket Numbers: ER12-524-004.

Applicants: Longview Power, LLC.

Description: Compliance filing: Reactive Service Rate Schedule Compliance Filing to be effective 5/11/2018.

Filed Date: 12/31/18.

Accession Number: 20181231-5075.

Comments Due: 5 p.m. ET 1/22/19.

Docket Numbers: ER12-1470-009; ER10-1290-009; ER10-3026-008; ER16-1833-005; ER18-836-002.

Applicants: Energia Sierra Juarez U.S., LLC, Energia Sierra Juarez 2 U.S., LLC, San Diego Gas & Electric Company, Sempra Gas & Power Marketing, LLC, Termoelectria U.S., LLC.

Description: Updated Market Power Analysis for the Southwest Region of Energia Sierra Juarez U.S., LLC, et al.

Filed Date: 12/28/18.

Accession Number: 20181228-5383.

Comments Due: 5 p.m. ET 2/26/19.

Docket Numbers: ER16-2363-004; ER10-2178-034; ER10-2192-034; ER11-2010-026; ER12-1223-022; ER12-1829-017; ER13-1536-018.

Applicants: Bluestem Wind Energy, LLC, Constellation Energy Commodities Group Maine, LLC, Constellation NewEnergy, Inc., Exelon Generation Company, LLC, Exelon Wind 4, LLC, Shooting Star Wind Project, LLC, Wildcat Wind, LLC.

Description: Updated Market Power Analysis for the Southwest Power Pool Region of the Exelon SPP Entities.

Filed Date: 12/28/18.

Accession Number: 20181228-5385.

Comments Due: 5 p.m. ET 2/26/19.

Docket Numbers: ER18-2118-001; ER10-1846-009; ER10-1849-015; ER10-1852-021; ER10-1855-009; ER10-1887-015; ER10-1920-017; ER10-1928-017; ER10-1952-015; ER10-1961-015; ER10-1994-009; ER10-1995-010; ER10-2551-010; ER10-2720-017; ER11-2642-010; ER11-4428-017; ER11-4462-030; ER12-1228-017; ER12-1880-016; ER12-2227-015; ER12-569-016; ER12-895-015; ER13-2474-011; ER13-712-017; ER14-2707-012; ER14-2708-013; ER14-2709-012; ER14-2710-012; ER15-1925-009; ER15-2676-008; ER15-30-010; ER15-58-010; ER16-1440-006; ER16-1672-006; ER16-2190-005; ER16-2191-005; ER16-2240-006; ER16-2241-005; ER16-2275-005; ER16-2276-005; ER16-2297-005; ER16-2453-006; ER17-2152-002; ER17-838-005; ER18-1981-001; ER18-2003-001; ER18-2032-001; ER18-2066-001; ER18-2067-002; ER18-2182-001; ER18-2314-002; ER18-882-001.

Applicants: Armadillo Flats Wind Project, LLC, Baldwin Wind, LLC, Blackwell Wind, LLC, Brady Interconnection, LLC, Brady Wind, LLC, Brady Wind II, LLC, Breckinridge Wind Project, LLC, Cedar Bluff Wind, LLC, Chaves County Solar, LLC, Cimarron Wind Energy, LLC, Cottonwood Wind Project, LLC, Day County Wind, LLC, Elk City Wind, LLC, Elk City Renewables II, LLC, Ensign Wind, LLC, Florida Power & Light Company, FPL Energy Burleigh County Wind, LLC, FPL Energy Cowboy Wind, LLC, FPL Energy Oklahoma Wind, LLC, FPL Energy Sooner Wind, LLC, FPL Energy South Dakota Wind, LLC, Gray County Wind Energy, LLC, High Majestic Wind Energy Center, LLC, High Majestic Wind II, LLC, Kingman Wind Energy I, LLC, Kingman Wind Energy II, LLC, Lorenzo Wind, LLC, Mammoth Plains Wind Project, LLC, Minco Wind, LLC, Minco Wind II, LLC, Minco Wind III, LLC, Minco Wind Interconnection Services, LLC, Minco Wind IV, LLC, Minco IV & V Interconnection, LLC, Minco Wind V, LLC, Ninnescah Wind Energy, LLC, Osborn Wind Energy, LLC, Palo Duro Wind Energy, LLC, Palo Duro Wind Interconnection Services, LLC, Pratt Wind, LLC, Roswell Solar, LLC, Rush Springs Wind Energy, LLC, Seiling Wind, LLC, Seiling Wind II, LLC, Seiling Wind Interconnection Services, LLC, Sholes Wind Energy, LLC, Steele Flats Wind Project, LLC, Wessington Wind Energy Center, LLC, Wildcat Ranch Wind Project, LLC, Wilton Wind II, LLC, NEPM II, LLC, NextEra Energy Marketing, LLC.

Description: Triennial Market Power Update for the Southwest Power Pool, Inc. Region of the NextEra Companies.

Filed Date: 12/28/18.

Accession Number: 20181228-5386.

Comments Due: 5 p.m. ET 2/26/19.

Docket Numbers: ER19-740-000.

Applicants: Trans Bay Cable LLC.

Description: § 205(d) Rate Filing: Annual TRBAA filing to be effective 1/1/2019.

Filed Date: 12/28/18.

Accession Number: 20181228-5320.

Comments Due: 5 p.m. ET 1/18/19.

Docket Numbers: ER19-741-000.

Applicants: GridLiance West LLC.

Description: § 205(d) Rate Filing: GridLiance West 12-28 TRBAA Filing to be effective 1/1/2019.

Filed Date: 12/31/18.

Accession Number: 20181231-5004.

Comments Due: 5 p.m. ET 1/22/19.

Docket Numbers: ER19-742-000.

Applicants: Southwest Power Pool, Inc.

Description: § 205(d) Rate Filing: 607R34 Westar Energy, Inc. NITSA NOA to be effective 12/1/2018.

Filed Date: 12/31/18.

Accession Number: 20181231-5089.

Comments Due: 5 p.m. ET 1/22/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 31, 2018.
Nathaniel J. Davis, Sr.,
Deputy Secretary.

[FR Doc. 2019-00024 Filed 1-7-19; 8:45 am]

BILLING CODE 6717-01-P